DEPARTMENT OF EDUCATION

[CFDA No.: 84.310A]

Parental Information and Resource Centers Program

AGENCY: Department of Education.

ACTION: Notice of proposed priority, selection criteria, and eligibility requirements.

SUMMARY: We propose a competitive preference priority, selection criteria, and eligibility requirements for grants for fiscal year (FY) 2002 under the Parental Information and Resource Centers (PIRC) Program. We are taking this action to implement a competition authorized under the No Child Left Behind Act of 2001. These grants would assist eligible parties in establishing school-based or school-linked PIRCs.

DATES: We must receive your comments on the proposed priority, selection criteria, and eligibility requirements May 6, 2002.

ADDRESSES: Address all comments about this proposed priority to Daisy Greenfield, Office of Elementary and Secondary Education, U.S. Department of Education, 400 Maryland Avenue, SW, Room 3E307, Washington, DC 20202-6410. Telephone: (202) 401-0039. FAX: (202) 205-0303. If you prefer to send your comments through the Internet, use the following address: daisy.greenfield@ed.gov.

If you want to comment on the information collection requirements, you must send your comments to the Department representative named in this section.

FOR FURTHER INFORMATION CONTACT: Daisy Greenfield, (202) 401-0039.

If you use a telecommunications device for the deaf (TDD), you may call the Federal Information Relay Service (FIRS) at 1-800-877-8339 between 8:00 a.m. and 8:00 p.m.

Individuals with disabilities may obtain this document in an alternative format (e.g., Braille, large print, audiotape, or computer diskette) on request to the contact person listed under FOR FURTHER INFORMATION CONTACT.

SUPPLEMENTARY INFORMATION:

Invitation To Comment

We invite you to submit comments regarding the proposed priority, selection criteria, and eligibility requirements. All comments submitted in response to this notice will be available for public inspection, during and after the comment period, in Room 3E307, 400 Maryland Avenue, SW, Washington, DC, between the hours of 8:30 a.m. and 4:00 p.m., Eastern time, Monday through Friday of each week except Federal holidays.

Assistance to Individual With Disabilities in Reviewing the Rulemaking Record

On request, we will supply an appropriate aid, such as a reader or print magnifier, to an individual with a disability who needs assistance to review the comments. If you want to schedule an appointment for this type of aid, please contact the person listed under FOR FURTHER INFORMATION CONTACT.

General

Subpart 16 of title V of the Elementary and Secondary Education Act of 1965 (ESEA), as amended by the No Child Left Behind Act of 2001 (No Child Left Behind Act) (Pub. L. 107-110), authorizes the Secretary of Education (Secretary) to award grants to nonprofit organizations and to consortia of nonprofit organizations and local educational agencies (LEAs), to establish school-based and school-linked PIRCs.

The purposes of the program are—

(1) To assist grantees in implementing effective parental involvement policies, programs, and activities that will improve children's academic achievement;

(2) To develop and strengthen partnerships among parents—including parents of children from birth through age five—teachers, principals, administrators, and other school personnel in meeting the educational needs of children;

(3) To develop and strengthen the relationship between parents and their child's school;

(4) To further the developmental progress of children assisted under the program;

(5) To coordinate activities funded under this program with parental involvement initiatives funded under section 1118 and other provisions of the ESEA; and

(6) To provide a comprehensive approach to improving student learning, through coordination and integration of Federal, State, and local services and programs.

Services that we fund under the Parental Information and Resource Centers Program should use up-to-date knowledge from research and effective practices. The proposed project should integrate strategies, methods, and practices that, on the basis of strong evidence of effectiveness, will most likely enhance parental involvement in schools and improve student academic achievement.

Centers funded under this program must be school-based or school-linked and provide comprehensive training, information, and support to (1) parents of children enrolled in elementary and secondary schools; (2) individuals who work with the parents of children enrolled in elementary and secondary schools; (3) State educational agencies (SEAs), LEAs, schools, organizations that support family-school partnerships (such as parent-teacher associations and Parents as Teachers organizations), and other organizations that carry out parent education and family involvement programs; and (4) parents of children from birth through age five.

Each PIRC must serve both urban and rural areas. To assist parents who are severely educationally or economically disadvantaged, a PIRC must use at least 50 percent of the each year's award to serve areas with high concentrations of low-income families.

Compared to previous PIRC legislation in title IV of the Goals 2000: Educate America Act, the No Child Left Behind Act emphasizes support for activities that assist parents in participating effectively in their children's education so that their children will meet State and local academic standards. For example, PIRCs must now assist parents in areas such as understanding State and local standards and measures of student and school academic achievement. They must work with SEAs and LEAs to determine parental needs and the best means for delivery of services. PIRCs may also assist parents in communicating better with teachers, principals, counselors, and other school personnel, and in becoming active participants in the development, implementation, and review of school-parent compacts, parental involvement policies, and school planning and improvement.

PIRCs must now use at least 30 percent of their funds each year to establish, expand, or operate early childhood parent education programs, such as Parents as Teachers programs or Home Instruction for Preschool Youngsters programs. PIRCs must also support one or more of the specific activities listed in section 5564(a) of the ESEA and may also assist schools with activities listed in section 5564(b).

The new PIRC provisions require the Secretary, to the extent practicable, to ensure that grants are distributed in all regions of the United States. Currently there is a parent center funded under title IV of Goals 2000 in each State, including the District of Columbia, Puerto Rico, and each of the outlying areas. The Secretary will continue to fund those centers for the remainder of their respective project periods. PIRCs in 28 States have one year left in their project periods and, thus, each of those will receive a continuation award from the FY 2002 PIRC funds under the reauthorized ESEA.

PIRCs in the following States are in the last year of their project periods and, therefore, will not receive continuation funding: Alabama, Alaska, Arizona, Arkansas, American Samoa, Commonwealth of the Northern Mariana Islands, Connecticut, Delaware, the Federated States of Micronesia, Guam, Idaho, Illinois, Indiana, Kansas, Louisiana, Montana, Mississippi, Nebraska, New Mexico, North Dakota, Oregon, Puerto Rico, the Republic of the Marshall Islands, the Republic of Palau, Rhode Island, South Carolina, U.S. Virgin Islands, Utah, Virginia, West Virginia, and Wyoming.

To comply with Congress' intent that grants be distributed, to the extent practicable, to all regions of the United States, the Secretary proposes to give a competitive preference of 10 additional points to the highest-scoring applicant from each of the States in which the current PIRC projects are ending. This selection process would still permit the Department to fund applications of exceptional quality from any State—whether or not a PIRC in the State received a continuation award from FY 2002 funds—and to fund more than one PIRC in a State if this were warranted.

The Secretary is also proposing specific selection criteria for the FY 2002 competition. The criteria are designed to help ensure that applicants selected for grants are those that (1) propose activities that best address the statutory purposes and requirements, (2) can effectively implement those activities, and (3) are likely to be successful in improving student and school academic achievement.

Both the predecessor and current PIRC legislation require that grants be made to nonprofit organizations, or to consortia of nonprofit organizations and LEAs. The organization or consortium must be governed by a board of directors whose membership includes parents, or be an entity that represents the interests of parents. Under the Department's interpretation of the predecessor legislation, the term “nonprofit organization” for purposes of the PIRC program did not include institutions of higher education, State educational agencies, local educational agencies, intermediate school districts, schools, government entities, or hospitals. Given the statutory language concerning the governance and purposes of the PIRCs, we believe that this is also the proper interpretation of the term “nonprofit organization” under the new PIRC legislation.

After considering the responses to this notice and other information available to the Department, we will announce in a notice in the Federal Register the final priority, selection criteria, and eligibility requirements under this competition for FY 2002.

Note: This notice does not solicit applications. A notice inviting applications under the competition will be published in the Federal Register concurrent with or following the notice of final priority, selection criteria, and eligibility requirements.

Priority

We propose to give a competitive preference under the PIRC competition to any applicant that—

(1) Is from one of the following States: Alabama, Alaska, Arizona, Arkansas, American Samoa, Commonwealth of the Northern Mariana Islands, Connecticut, Delaware, the Federated States of Micronesia, Guam, Idaho, Illinois, Indiana, Kansas, Louisiana, Montana, Mississippi, Nebraska, New Mexico, North Dakota, Oregon, Puerto Rico, the Republic of the Marshall Islands, the Republic of Palau, Rhode Island, South Carolina, U.S. Virgin Islands, Utah, Virginia, West Virginia, and Wyoming; and

(2) Is the highest-scoring applicant from its State on the basis of the selection criteria for the competition.

We would award 10 points to any applicant that meets the priority. These points would be in addition to any points the applicant earns under the selection criteria.

Selection Criteria

We propose that we use the following selection criteria to evaluate applications under the PIRC competition. The maximum points for each criterion is indicated in parentheses after the heading for that criterion.

(a) Need for the project (20)

In evaluating the need for the proposed project, we consider the extent to which—

(1) The proposed project will provide services to or otherwise address the needs of parents who are educationally or economically disadvantaged;

(2) The training, information, and support services currently available inadequately address the needs of the parents the proposed project will serve; and

(3) The children of the parents the proposed project will serve are not meeting State or local academic achievement standards.

(b) Quality of the design of the proposed PIRC (25)

In evaluating the quality of the design of the proposed PIRC, we consider the extent to which—

(1) The proposed PIRC will be a school-based or school-linked center of adequate size, scope, and quality to serve effectively the parents in the area;

(2) The proposed PIRC is designed to work in coordination with the SEA and affected LEAs (i) in determining the needs of the parents who will be targeted for assistance; and (ii) in developing an effective means for providing services to those parents;

(3) The proposed PIRC is designed to coordinate and integrate activities funded under this grant with parental involvement activities funded from other sources, particularly title I of the Elementary and Secondary Education Act, as amended, and the Individuals with Disabilities Education Act;

(4) The proposed PIRC will support effective early childhood parent education programs that will enhance school readiness;

(5) The proposed project includes multiple strategies for providing direct and indirect services for parents targeted for assistance; and

(6) The proposed PIRC will implement a management plan that includes clearly defined responsibilities, timelines, and milestones for meeting the purposes of the program as defined in section 5661 of the legislation.

(c) Quality of the services (20)

In evaluating the quality of the services to be provided by the proposed PIRC, we consider—

(1) The quality and sufficiency of strategies for ensuring equal access by, and treatment of eligible project participants who are members of groups that have been traditionally underrepresented based on race, color, national origin, gender, age, or disability; and

(2) The extent to which the proposed PIRC will—

(i) Provide comprehensive training, information, and support services to develop and strengthen the relationship between parents and their child's school;

(ii) Assist parents in understanding the student academic achievement standards to which their child is being held and the measures of student and school academic achievement;

(iii) Assist parents in becoming involved in their child's education in meaningful ways that are likely to improve the child's academic achievement;

(iv) Provide services that reflect up-to-date knowledge from research and effective practices; and

(v) Provide to parents services that will likely improve the developmental progress of children, including children from birth through age five.

(d) Quality of the PIRC personnel (10)

In evaluating the quality of the personnel who will carry out the PIRC activities, we consider—

(1) The extent to which the applicant encourages applications for employment from persons who are members of groups that have been traditionally underrepresented based on race, color, national origin, gender, age, or disability;

(2) The qualifications, including relevant training and experience, of the PIRC director;

(3) The qualifications, including relevant training and experience, of key PIRC personnel; and

(4) The qualifications, including relevant training and experience, of PIRC consultants or subcontractors.

(e) Evaluation (25)

In evaluating the quality of the evaluation the applicant proposes to conduct of the proposed project, we consider the extent to which the methods of evaluation—

(1) Are thorough, feasible, and appropriate to the goals, objectives, and outcomes of the proposed project;

(2) Produce quantitative and qualitative data; and

(3) Will result in data on whether the policies and practices of the PIRC are effective in improving home-school communication, student academic achievement, school academic achievement, and parental involvement in school planning, review, and improvement.

Eligibility Requirements

We propose that organizations seeking funding under the PIRC Program, either individually or in consortia with one or more LEAs, be required to demonstrate that they are nonprofit organizations under section 501(c)(3) of the Internal Revenue Code.

We also propose, for purposes of the PIRC Program, that the term “nonprofit organization” not include institutions of higher education, State educational agencies, local educational agencies, intermediate school districts, schools, government entities, or hospitals.

Executive Order 12866

This notice has been reviewed in accordance with Executive Order 12866. Under the terms of the order, we have assessed the potential costs and benefits of this regulatory action.

The potential costs associated with the notice are those resulting from statutory requirements and those we have determined as necessary for administering this program effectively and efficiently.

In assessing the potential costs and benefits—both quantitative and qualitative—of this notice, we have determined that the benefits justify the costs.

We have also determined that this regulatory action does not unduly interfere with State, local, and tribal governments in the exercise of their governmental functions.

Summary of Potential Costs and Benefits

It is not anticipated that the requirements proposed in this notice will impose any significant costs on applicants. Since these regulations provide a basis for the Secretary to implement a competitive grant program that would assist grantees to establish school-based or school-linked PIRCs, the regulations would not impose any unfunded mandates on States or LEAs. The benefits of the program are described in the General section under SUPPLEMENTARY INFORMATION in this notice.

Regulatory Flexibility Act

The Secretary certifies that the requirements in this notice will not have a significant economic impact on a substantial number of small entities. The small entities affected would be small nonprofit organizations and small LEAs. The requirements proposed in this notice are minimal and are necessary to ensure effective program management. They will not have a significant economic impact on any program applicants.

Federalism

Executive Order 13132 requires us to ensure meaningful and timely input by State and local elected officials in the development of regulatory policies that have federalism implications. “Federalism implications” means substantial direct effects on the States, on the relationship between the National Government and the States, or on the distribution of power and responsibilities among the various levels of government. Although we do not believe these proposed regulations would have federalism implications as defined in Executive Order 13132, we encourage State and local elected officials to review them and to provide comments.

Paperwork Reduction Act of 1995

This document contains information collection requirements. Under the Paperwork Reduction Act of 1995 (44 U.S.C. 3507(d)), we have submitted a copy of this document and the information collection to the Office of Management and Budget (OMB) for its review.

If you want to comment on the information collection requirements, please send your comments to the Department representative listed under FOR FURTHER INFORMATION CONTACT.

OMB is required to make a decision concerning the collection of information in this document between 30 and 60 days after publication in the Federal Register. Therefore, to ensure that OMB gives your comments full consideration, it is important that OMB receives the comments within 30 days of publication. This does not affect the deadline for your comments to us on the proposed priority, selection criteria, and eligibility requirements.

Electronic Access to This Document

You may view this document, as well as all other Department of Education documents published in the Federal Register, in text or Adobe Portable Document Format (PDF) on the Internet at the following site: www.ed.gov/legislation/FedRegister.

To use PDF you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.access.gpo.gov/nara/index.html.

Program Authority: Subpart 16 of title V of the Elementary and Secondary Education Act, as amended by the No Child Left Behind Act of 2001 (Pub. L. 107-110).

Dated: March 29, 2002.
Susan B. Neuman,
Assistant Secretary for Elementary and Secondary Education.

[FR Doc. 02-8087 Filed 4-3-02; 8:45 am]

BILLING CODE 4000-01-P